DEPARTMENT OF EDUCATION

President's Advisory Commission on Educational Excellence for Hispanic Americans; Event

AGENCY: President's Advisory Commission on Educational Excellence for Hispanic Americans, Department of Education.

ACTION: Notice of event.

SUMMARY: This notice sets forth the schedule and proposed agenda of a forthcoming convening/event of the President's Advisory Commission on Educational Excellence for Hispanic Americans (Commission). Notice of this event is required under Section 10(a)(2) of the Federal Advisory Committee Act in order to notify the public of their opportunity to attend.

DATES AND TIMES: Monday, September 25, 2000, from 6-8 p.m.

ADDRESSES: National Press Club, Ball Room, 529 14th Street, NW, Washington, DC 20045.

FOR FURTHER INFORMATION CONTACT: Richard Toscano, Special Assistant for Interagency Affairs, at 202-401-1411 (telephone), 202-401-8377 (fax), richard_toscano@ed.gov (e-mail) or mail: U.S. Department of Education, 400 Maryland Ave., S.W., room 5E110; Washington, D.C. 20202-3601.

SUPPLEMENTARY INFORMATION: The Commission was established under Executive Order 12900 (February 22, 1994) to provide the President and the Secretary of Education with advice on (1) the progress of Hispanic Americans toward achievement of the National Goals and other standards of educational accomplishment; (2) the development, monitoring, and education for Hispanic Americans; (3) ways to increase, State, county, private sector and community involvement in improving education; and (4) ways to expand and complement Federal education initiatives.

At this event, the Commission will celebrate its work under the Clinton Administration and acknowledge ongoing and future efforts to support Latinos in education.

Individuals who will need accommodations for a disability in order to attend the meeting (i.e., interpreting services, assistive listening devices, materials in alternative format) should notify Richard Toscano, at (202) 401-1411, by no later than September 11. We will attempt to meet requests after this date, but cannot guarantee availability of the requested accommodation. The meeting site is accessible to individuals with disabilities.

Records of all Commission proceedings are available for public inspection at the White House Initiative, U.S. Department of Education, 400 Maryland Ave., S.W., Room 5E110, Washington, D.C. 20202 from 9:00 a.m. to 5:00 p.m. (est).

Dated: August 24, 2000.
G. Mario Moreno,
Assistant Secretary, Office of Intergovernmental and Interagency Affairs.

[FR Doc. 00-23036 Filed 9-7-00; 8:45 am]

BILLING CODE 4000-01-M